FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
June 1, 2017 Through June 30, 2017
06/01/2017
20171164 | G | Crown Castle International Corp.; Pamlico Capital II, L.P.; Crown Castle International Corp.
20171172 | G | Verizon Communications Inc.; Carl C. Icahn; Verizon Communications Inc.
20171238 | G | Oak Hill Capital Partners IV (Onshore), L.P.; Cypress Investor Holdings, L.P.; Oak Hill Capital Partners IV (Onshore), L.P.
20171249 | G | Audax Private Equity Fund V-A, L.P.; Dade Paper & Bag Co.; Audax Private Equity Fund V-A, L.P.
06/02/2017
20171203 | G | Elliot International Limited; Gigamon Inc.; Elliot International Limited.
20171204 | G | Elliott Associates, L.P.; Gigamon Inc.; Elliott Associates, L.P.
20171245 | G | Tallgrass Equity, LLC; DCP Midstream, LP; Tallgrass Equity, LLC.
20171252 | G | ORIX Corporation; Ormat Technologies, Inc.; ORIX Corporation.
06/05/2017
20171196 | G | HSI Holdings I, Inc.; Zhuhai Hengxin Fengye Technology LLC; HSI Holdings I, Inc.
20171226 | G | Thoma Bravo Fund XI Global, L.P.; Zhuhai Hengxin Fengye Technology LLC; Thoma Bravo Fund XI Global, L.P.
20171227 | G | Ares Corporate Opportunities Fund IV, L.P.; Deva Holdings, Inc.; Ares Corporate Opportunities Fund IV, L.P.
20171237 | G | TCV IX, L.P.; Cypress Investor Holdings, L.P.; TCV IX, L.P.
20171268 | G | Wartsila Corporation; Greensmith Energy Management Systems, Inc.; Wartsila Corporation.
20171270 | G | One Fifty One PLC; Ugo Rista Charitable Trust; One Fifty One PLC.
20171277 | G | PAI Europe VI-1 FPCI; Baron Albert Frere; PAI Europe VI-1 FPCI.
20171278 | G | PAI Europe VI-1 FPCI; Desmarais Family Residuary Trust; PAI Europe VI-1 FPCI.
20171279 | G | Laurentian Bank of Canada; NCF Holdings LLC; Laurentian Bank of Canada.
20171282 | G | Golden Gate Capital Opportunity Fund, L.P.; G.A.L. Manufacturing Corporation; Golden Gate Capital Opportunity Fund, L.P.
20171283 | G | Golden Gate Capital Opportunity Fund, L.P.; Hollister-Whitney Elevator Corp.; Golden Gate Capital Opportunity Fund, L.P.
20171284 | G | Triton Fund IV LP; Werner Worldwide Holding Company, LP; Triton Fund IV LP.
20171288 | G | W. Keith Maxwell III; Verde Energy USA Holdings, LLC; W. Keith Maxwell III.
20171295 | G | Ardian North America Fund II, L.P.; Dynamic Technologies S.p.A.; Ardian North America Fund II, L.P.
20171297 | G | Koninklijke Philips N.V.; Respiratory Technologies, Inc.; Koninklijke Philips N.V.
20171301 | G | OEP VI Feeder (Cayman), L.P.; OME Investment Acquisition S.C.A.; OEP VI Feeder (Cayman), L.P.
20171304 | G | The Baring Asia Private Equity Fund VI, L.P. 2; The Baring Asia Private Equity Fund IV, L.P.; The Baring Asia Private Equity Fund VI, L.P. 2.
06/06/2017
20171217 | G | Comcast Corporation; Sympoz, Inc.; Comcast Corporation.
20171232 | G | Liberty Interactive Corporation; Lending Tree, Inc.; Liberty Interactive Corporation.
20171300 | G | AP VIII Olympus VoteCo, LLC; West Corporation; AP VIII Olympus VoteCo, LLC.
06/07/2017
20171212 | G | Open Road Holdings, LLC; Landmark Media Enterprises, LLC; Open Road Holdings, LLC.
20171215 | G | Liberty Interactive Corporation; GCI Liberty, Inc.; Liberty Interactive Corporation.
20171294 | G | Cerberus Institutional Partners, L.P.; White Deer Energy L.P. II; Cerberus Institutional Partners, L.P.
20171299 | G | HGGC Fund III-A, L.P.; Nutraceutical International Corporation; HGGC Fund III-A, L.P.
20171305 | G | Hub Group, Inc.; Timothy J. and Traci M. Estenson; Hub Group, Inc.
20171308 | G | TA XII-A L.P.; GI Partners Fund IV L.P.; TA XII-A L.P.
20171335 | G | AEA Investors Fund VI LP; Berkshire Fund VII, L.P.; AEA Investors Fund VI LP.
06/08/2017
20171313 | G | Marc A. Gardner; Edward K. Freedman; Marc A. Gardner.
06/09/2017
20171315 | G | Wintime Energy Co., Ltd.; HRC Investment Holding, LLC; Wintime Energy Co., Ltd.
20171333 | G | HGGC Fund III-A, L.P.; TA XI, L.P.; HGGC Fund III-A, L.P.
20171334 | G | Spirax-Sarco Engineering plc; Irving Place Partners III SPV, L.P.; Spirax-Sarco Engineering plc.
20171342 | G | Inception Topco, Inc.; TriCore Solutions Holdings, LLC; Inception Topco, Inc.
20171343 | G | Blake Quinn; Johnson Machinery Co.; Blake Quinn.
20171345 | G | Golden Gate Capital Opportunity Fund, L.P.; SAASH Co-Investment, LLC; Golden Gate Capital Opportunity Fund, L.P.
06/12/2017
20171100 | G | KKR North America Fund XI (AMG) LLC; The Hunt Legacy Trust; KKR North America Fund LLC.
20171271 | G | Elliott Associates, L.P.; NXP Semiconductors N.V.; Elliott Associates, L.P.
20171339 | G | Alchemy Copyrights, LLC; Andre de Raaff; Alchemy Copyrights, LLC.
20171371 | G | Deere & Company; Wirtgen Group GmbH; Deere & Company.
06/13/2017
20171254 | G | UnitedHealth Group Incorporated; New West Physicians, P.C.; UnitedHealth Group Incorporated.
06/14/2017
20170689 | G | General Electric Company; Baker Hughes Incorporated; General Electric Company.
20171346 | G | American International Group, Inc.; Hamilton Insurance Group, Ltd.; American International Group, Inc.
20171372 | G | Clayton Dubilier & Rice Fund IX, L.P.; Fidelity National Information Services, Inc.; Clayton Dubilier & Rice Fund IX, L.P.
06/15/2017
20171340 | G | FR XIII Charlie AIV, L.P.; Crestwood Equity Partners LP; FR XIII Charlie AIV, L.P.
20171351 | G | Crius Energy Trust; MVC Capital, Inc.; Crius Energy Trust.
20171365 | G | GTCR Fund XI/A LP; The Sage Group plc; GTCR Fund XI/A LP.
06/16/2017
20171368 | G | Vista Foundation Fund III, L.P.; Lithium Technologies, Inc.; Vista Foundation Fund III, L.P.
20171374 | G | J.W. Childs Equity Partners IV, L.P.; EBL Holding Company, LLC; J.W. Childs Equity Partners IV, L.P.
20171375 | G | Mitsui & Co., Ltd.; Accountable Healthcare Holdings Corp.; Mitsui & Co., Ltd.
20171379 | G | Michael J. Angelakis; Bowlmor AMF Corp.; Michael J. Angelakis.
20171382 | G | Bienestar Jersey Limited; Yellow Wood Brand Acquisition 2012, LP; Bienestar Jersey Limited.
20171392 | G | KPS Special Situations Fund IV, LP; Sterling Group Partners III, L.P.; KPS Special Situations Fund IV, LP.
20171393 | G | CF Corporation; HRG Group, Inc.; CF Corporation.
20171398 | G | Shanghai Hongda Mining Co., Ltd.; Isaac Verbukh; Shanghai Hongda Mining Co., Ltd.
20171400 | G | CD&R Fund X Waterworks B, L.P.; HD Supply Holdings, Inc.; CD&R Fund X Waterworks B, L.P.
20171401 | G | Phillips Edison Grocery Center REIT I, Inc.; Phillips Edison Limited Partnership; Phillips Edison Grocery Center REIT I, Inc.
06/19/2017
20171281 | G | PEM Holding Co.; Neil L. Whitesell; PEM Holding Co.
20171318 | G | Hangzhou Great Star Industrial Co., Ltd.; Masco Corporation; Hangzhou Great Star Industrial Co., Ltd.
06/20/2017
20171373 | G | MasterCard Incorporated; AvidXchange, Inc.; MasterCard Incorporated.
20171383 | G | Vista Equity Partners Fund VI, L.P.; Xactly Corporation; Vista Equity Partners Fund VI, L.P.
20171390 | G | TPG Partners VII, L.P.; Kinnser Software Holdings, Inc.; TPG Partners VII, L.P.
20171414 | G | New Omaha Holdings L.P.; CardConnect Corp.; New Omaha Holdings L.P.
06/21/2017
20171273 | G | Bain Capital Fund XI, L.P.; H.I.G. Bayside Debt & LBO Fund II, L.P.; Bain Capital Fund XI, L.P.
20171280 | G | H.I.G. Bayside Debt and LBO Fund II, L.P.; Irving Place Capital Parnters III SPV, L.P.; H.I.G. Bayside Debt and LBO Fund II, L.P.
20171285 | G | Alex Meruelo; Emmis Communications Corporation; Alex Meruelo.
20171289 | G | Elliott International Limited; athenahealth, Inc.; Elliott International Limited.
20171290 | G | Elliott Associates, L.P.; athenahealth, Inc.; Elliott Associates, L.P.
20171418 | G | Apax IX USD L.P.; 3M Company; Apax IX USD L.P.
06/26/2017
20171367 | G | Corvex Master Fund LP; Energen Corporation; Corvex Master Fund LP.
20171384 | G | Wheeling Creek Midstream, LLC; Noble Energy, Inc.; Wheeling Creek Midstream, LLC.
20171394 | G | WestRock Company; Gary Berkowitz; WestRock Company.
20171411 | G | Carlyle Partners VI, L.P.; Albany Molecular Research, Inc.; Carlyle Partners VI, L.P.
20171412 | G | GTCR Fund XI/A LP; Albany Molecular Research, Inc.; GTCR Fund XI/A LP.
20171419 | G | London Stock Exchange Group plc; Citigroup Inc.; London Stock Exchange Group plc.
20171420 | G | Kirby Corporation; Hushang Ansary; Kirby Corporation.
20171421 | G | Cerberus Institutional Partners, L.P.; IASIS Investment LLC; Cerberus Institutional Partners, L.P.
20171422 | G | ECN Capital Corp.; Service Finance Holdings, LLC; ECN Capital Corp.
20171423 | G | Cross Country Healthcare, Inc.; Mathew Price and Sharon Price; Cross Country Healthcare, Inc.
20171425 | G | Pamlico Capital III, L.P.; Scott Becker; Pamlico Capital III, L.P.
20171426 | G | KPS Special Situations Fund IV, LP; adidas AG; KPS Special Situations Fund IV, LP.
20171432 | G | Aspen Buyer LP; American Securities Partners VI, L.P.; Aspen Buyer LP.
20171433 | G | Madison Industries Holdings LLC; AB SKF; Madison Industries Holdings LLC.
20171436 | G | TPG Partners VII, L.P.; Shane Smith; TPG Partners VII, L.P.
20171440 | G | Boing Holding S.a.r.l.; DLR Associates, LLC; Boing Holding S.a.r.l.
06/27/2017
20171395 | G | DXC Technology Company; LLR Equity Partners III, L.P.; DXC Technology Company.
20171399 | G | Ensco plc; Atwood Oceanics, Inc.; Ensco plc.
20171437 | G | TAO Finance 1, LLC; Shane Smith; TAO Finance 1, LLC.
20171446 | G | McKesson Coporation; Lake Capital Partners II LP; McKesson Coporation.
20171461 | G | Cardinal Health, Inc.; Liberty Medical Holdings, LLC; Cardinal Health, Inc.
06/28/2017
20171355 | G | GP Investments Acquisition Corp.; Rimini Street, Inc.; GP Investments Acquisition Corp.
20171410 | G | GTCR Fund XI/A LP; GreatCall, Inc.; GTCR Fund XI/A LP.
20171415 | G | Graphic Packaging Holding Company; Robert F. Brewer; Graphic Packaging Holding Company.
20171416 | G | Graphic Packaging Holding Company; John C. Reiss; Graphic Packaging Holding Company.
06/29/2017
20171206 | G | HCA Healthcare, Inc.; Tenet Healthcare Corporation; HCA Healthcare, Inc.
20171251 | G | HCA Healthcare, Inc.; Community Health System, Inc.; HCA Healthcare, Inc.
20171322 | G | Vivendi S.A.; Vincent Bollore'; Vivendi S.A.
20171380 | G | JP Morgan Chase & Co.; Sonus Networks, Inc.; JP Morgan Chase & Co.
20171381 | G | Sonus Networks, Inc.; JP Morgan Chase & Co.; Sonus Networks, Inc.
20171435 | G | KKR European Fund IV L.P.; A-Gas (Orb) Limited; KKR European Fund IV L.P.
20171449 | G | Kevin Knight; Swift Transportation Company; Kevin Knight.
20171450 | G | Gary Knight; Swift Transportation Company; Gary Knight.
20171451 | G | Keith Knight; Swift Transportation Company; Keith Knight.
06/30/2017
20171402 | G | Black Diamond Thematic Ltd.; Bunge Limited; Black Diamond Thematic Ltd.
20171403 | G | Double Black Diamond Ltd.; Bunge Limited; Double Black Diamond Ltd.
20171431 | G | JTEKT Corporation; Fuji Kiko Co., Ltd.; JTEKT Corporation.
20171438 | G | Baylor Scott & White Holdings; Texas Spine and Joint Hospital, Ltd.; Baylor Scott & White Holdings.
20171439 | G | Firmenich International SA; MidOcean Partners III, L.P.; Firmenich International SA.
20171442 | G | SemGroup Corporation; Alinda Infrastructure Fund II, L.P.; SemGroup Corporation.
20171445 | G | GI Peak Holding Corporation; JR Shaw; GI Peak Holding Corporation.
20171447 | G | GI Partners Fund V LP; GI Partners Fund IV L.P.; GI Partners Fund V LP.
20171455 | G | Sovos Brands Limited Partnership; Rao's Specialty Foods, Inc.; Sovos Brands Limited Partnership.
20171456 | G | Teladoc, Inc.; Best Doctors Holdings, Inc.; Teladoc, Inc.
20171465 | G | Alliance Data Systems Corporation; Signet Jewelers Limited; Alliance Data Systems Corporation.
20171466 | G | Oaktree Power Opportunities Fund IV, L.P.; S.C. Sachs Company, Inc.; Oaktree Power Opportunities Fund IV, L.P.
20171471 | G | CEOF AIV Cayman, L.P.; Commercial Metals Company; CEOF AIV Cayman, L.P.
20171472 | G | Frazier Healthcare Growth Buyout Fund VIII L.P.; Chudy Group, LLC; Frazier Healthcare Growth Buyout Fund VIII L.P.
20171473 | G | Jun Wang; SomaLogic, Inc.; Jun Wang.
20171479 | G | Compagnie Generale des Establissements Michelin; FleetCor Technologies, Inc.; Compagnie Generale des Establissements Michelin.
20171481 | G | Wal-Mart Stores, Inc.; Bonobos, Inc.; Wal-Mart Stores, Inc.
20171494 | G | Clayton Dubilier & Rice Fund IX, L.P.; Direct Vet Marketing, Inc.; Clayton Dubilier & Rice Fund IX, L.P.
20171496 | G | Hellman & Friedman Capital Partners VIII, L.P.; General Atlantic Partners 93, L.P.; Hellman & Friedman Capital Partners VIII, L.P.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2017-15093 Filed 7-18-17; 8:45 am]

BILLING CODE 6750-01-P